DEPARTMENT OF STATE

[Public Notice 11179]

Advisory Committee on Historical Diplomatic Documentation; Notice of Virtual Open Meeting

The Advisory Committee on Historical Diplomatic Documentation will meet on September 14 in a virtual open session to discuss unclassified matters concerning the status of the Foreign Relations series.

The Committee will meet in open session from 10 a.m. until noon through a virtual platform TBD. Members of the public planning to attend the virtual meeting should RSVP to Julie Fort at FortJL@state.gov. RSVP and requests for reasonable accommodation should be sent not later than September 1, 2020. Instructions on how to join the virtual meeting will be provided upon receipt of RSVP.

Questions concerning the meeting should be directed to Adam M. Howard, Executive Secretary, Advisory Committee on Historical Diplomatic Documentation, Department of State, Office of the Historian, Washington, DC 20372, history@state.gov.

Note that requests for reasonable accommodation received after September 1 will be considered but might not be possible to fulfill.

Zachary A. Parker,
Director, Office of Directives Management, Department of State.

[FR Doc. 2020-17649 Filed 8-11-20; 8:45 am]

BILLING CODE 4710-34-P